DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 30, 2002.

Interested persons are invited to submit written comments regarding the subject matter of the investigations to the Director, Division of Trade Adjustment Assistance, at the address shown below, not later than December 30, 2002.

The petitions filed in this case are available for inspection at the Office of the Director, Division of Trade Adjustment Assistance, Employment and Training Administration, U.S. Department of Labor, Room C-5311, 200 Constitution Avenue, NW., Washington, DC 20210.

Signed at Washington, DC this 6th day of December, 2002.
Edward A. Tomchick,
Director, Division of Trade Adjustment Assistance.

Appendix
[Petitions instituted between 11/25/2002 and 11/29/2002]
TA-W | Subject Firm (petitioners) | Location | Date of institution | Date of petition
50,174 | Burgess Norton Foundry (Comp) | Muskegon, MI | 11/25/2002 | 11/09/2002
50,175 | T.L. Diamond and Company, Inc. (Comp) | New York, NY | 11/25/2002 | 11/22/2002
50,176 | Idaho Circuit Technology Corp. (Comp) | Glenns Ferry, ID | 11/25/2002 | 11/22/2002
50,177 | Carptenter Technology Corp. (Wkrs) | McBee, SC | 11/25/2002 | 11/22/2002
50,178 | Evanite Fiber Corporation (Comp) | Corvallis, OR | 11/25/2002 | 11/22/2002
50,179 | SMT, Inc. (UAW) | Hanover, MI | 11/25/2002 | 11/18/2002
50,180 | Dallco Industries, Inc. (Comp) | York, PA | 11/25/2002 | 11/22/2002
50,181 | Eagle Zinc Company (Comp) | Hillsboro, IL | 11/25/2002 | 11/22/2002
50,182 | TSCO/Tube Specialties Co., Inc. (Wkrs) | Troutdale, OR | 11/26/2002 | 11/20/2002
50,183 | Donaldson Company, Inc. (Comp) | Port Huron, MI | 11/26/2002 | 11/19/2002
50,184 | Corning Cable Systems (Wkrs) | Hickory, NC | 11/26/2002 | 11/13/2002
50,185 | Smurfit-Stond (PACE) | Milwaukee, WI | 11/26/2002 | 11/22/2002
50,186 | Don Shapiro Industries (Comp) | El Paso, TX | 11/26/2002 | 11/06/2002
50,187 | Crown Casting, Inc. (NJ) | Midland Park, NJ | 11/26/2002 | 11/19/2002
50,188 | JDS Uniphase (NJ) | West Trenton, NJ | 11/26/2002 | 11/14/2002
50,189 | Temco Fireplace Products (Wkrs) | Manchester, TN | 11/26/2002 | 11/21/2002
50,190 | Powdertech Corp. (Comp) | Valparaiso, IN | 11/26/2002 | 11/20/2002
50,191 | Alfred Dunner, Inc. (NJ) | Parsippany, NJ | 11/26/2002 | 11/14/2002
50,192 | Smith and Wesson Corp. (Comp) | Springfield, MA | 11/26/2002 | 11/22/2002
50,193 | Dan River, Inc. (Wkrs) | Greenville, SC | 11/26/2002 | 11/06/2002
50,194 | Allen-Edmonds Shoe Corp. (Wkrs) | Lewiston, ME | 11/26/2002 | 11/18/2002
50,195 | ZSML Corp. (Comp) | San Fernando, CA | 11/26/2002 | 11/14/2002
50,196 | Rockford Company (The) (Comp) | Rockford, IL | 11/26/2002 | 11/26/2002
50,197 | Williamsport Wirerope Works (USWA) | Williamsport, PA | 11/27/2002 | 11/22/2002
50,198 | Vaagen Brothers Lumber, Inc. (Comp) | Republic, WA | 11/27/2002 | 11/25/2002
50,199 | J Dreier Enterprises LTD (Comp) | New Brighton, MN | 11/27/2002 | 11/19/2002
50,200 | Wabash Alloys LLC (Comp) | Benton, AR | 11/27/2002 | 11/25/2002
50,201 | Aerostar International, Inc. (Wkrs) | Parkston, SD | 11/27/2002 | 11/19/2002
50,202 | General Electric Company (USWA) | Bridgeville, PA | 11/27/2002 | 11/19/2002
50,203 | SMS Eumuco, Inc. (Comp) | Pittsburgh, PA | 11/27/2002 | 11/21/2002
50,204 | Kokusai Semiconductor Equipment Corp. (Co | N. Billerica, MA | 11/27/2002 | 11/16/2002
50,205 | McInnes Rolled Rings (Wkrs) | Erie, PA | 11/27/2002 | 11/26/2002
50,206 | Inland production Company (Wkrs) | Myton, UT | 11/27/2002 | 11/25/2002
50,207 | Dana Corporation (Wkrs) | Morganton, NC | 11/27/2002 | 11/19/2002
50,208 | Marshall Erdman Techline (UBCJA | Waunakee, WI | 11/27/2002 | 11/26/2002
50,209 | Facemate Corp. (Wkrs) | Greenwood, SC | 11/27/2002 | 11/18/2002
50,210 | Convereys (Wkrs) | Jacksonville, FL | 11/27/2002 | 11/11/2002
50,211 | Trigon Engineering (AR) | Lt. Rock, AR | 11/27/2002 | 11/27/2002
50,212 | Lakeside Machine, Inc. (IBT) | Gladstone, MI | 11/27/2002 | 11/27/2002
50,213 | Fishercast, Inc. (Comp) | Watertown, NY | 11/27/2002 | 11/20/2002
50,214 | Arvin/Meritor Automotive (UAW) | Oshkosh, WI | 11/29/2002 | 11/27/2002
50,215 | Greystone, Inc. (Comp) | Providence, RI | 11/29/2002 | 11/26/2002
50,216 | Carney Products Company, LTD (Comp) | Saint Maries, ID | 11/29/2002 | 11/13/2002
50,217 | Emerald Creek Garnet (Comp) | Fernwood, ID | 11/29/2002 | 11/27/2002
50,218 | United Sewing (Comp) | Etowah, TN | 11/29/2002 | 11/27/2002
50,219 | Maytag NLP (UAW) | Newton, IA | 11/29/2002 | 11/27/2002
50,220 | Trus Joist, A Weyerhaeuser Business (Wkrs) | Stayton, OR | 11/29/2002 | 11/26/2002
50,221 | Ericsson Wireless Communications (Comp) | San Diego, CA | 11/29/2002 | 11/21/2002
50,222 | Great Northern Tool and Die, Inc. (Comp) | Chesterfield, MI | 11/29/2002 | 11/22/2002

[FR Doc. 02-32097 Filed 12-19-02; 8:45 am]

BILLING CODE 4510-30-M